DEPARTMENT OF COMMERCE

National Oceanic and Atmospheric Administration

[RTID 0648-XB045]

North Pacific Fishery Management Council; Public Meeting

AGENCY: National Marine Fisheries Service (NMFS), National Oceanic and Atmospheric Administration (NOAA), Commerce.

ACTION: Notice of web conference.

SUMMARY: The North Pacific Fishery Management Council (Council) Crab Plan Team will meet May 17, 2021 through May 20, 2021.

DATES: The meeting will be held on Monday, May 17, 2021 through Wednesday, May 19, 2021, from 8 a.m. to 4 p.m., and from 8 a.m. to 10 a.m. on Thursday, May 20, 2021, Alaska Time.

ADDRESSES: The meeting will be a web conference. Join online through the link at https://meetings.npfmc.org/Meeting/Details/2045.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Jim Armstrong, Council staff; phone: (907) 271-2809; email: james.armstrong@noaa.gov. For technical support please contact our admin Council staff, email: npfmc.admin@noaa.gov.

SUPPLEMENTARY INFORMATION:

Agenda

Monday, May 17, 2021 through Thursday, May 20, 2021

The Crab Plan Team will review the final 2021 stock assessments for Aleutian Islands golden king crab and Pribilof Islands blue king crab. Additionally, the Crab Plan Team will discuss model scenarios for the September 2021 stock assessments for snow crab, Tanner crab, Bristol Bay red king crab, summer survey planning, VAST model, length-weight analyses, catch standardization, the Bering Sea fisheries research fund survey and snow crab workshop, Norton Sound red king crab growth, research priorities, the GMACS modeling framework, a crab stock assessment risk table, the EFH 5 year review, terms of reference for crab SAFE chapters, and plans for the Crab Plan Team's September 2021 meeting. The agenda is subject to change, and the latest version will be posted at https://meetings.npfmc.org/Meeting/Details/2045 prior to the meeting, along with meeting materials.

Connection Information

You can attend the meeting online using a computer, tablet, or smart phone; or by phone only. Connection information will be posted online at: https://meetings.npfmc.org/Meeting/Details/2045.

Public Comment

Public comment letters will be accepted and should be submitted electronically to https://meetings.npfmc.org/Meeting/Details/2045.

Authority: 16 U.S.C. 1801 et seq.

Dated: April 26, 2021.
Tracey L. Thompson,
Acting Deputy Director, Office of Sustainable Fisheries, National Marine Fisheries Service.

[FR Doc. 2021-08994 Filed 4-28-21; 8:45 am]

BILLING CODE 3510-22-P